Title 3—

The President

Proclamation 8234 of April 8, 2008

National Former Prisoner of War Recognition Day, 2008

By the President of the United States of America

A Proclamation

America is blessed to have brave men and women willing to step forward to defend our freedoms and keep us safe. The members of the United States Armed Forces have proudly held fast against determined and ruthless enemies, protected our citizens from harm, and freed millions from oppression. On National Former Prisoner of War Recognition Day, we pay tribute to the courageous and selfless individuals who were taken captive while serving the cause of peace and securing liberty across the globe.

America's former prisoners of war set an example of vision, valor, and unshakeable love of country that inspires our citizens. Through unspeakable conditions, they upheld their oath to defend America with honor and dignity. Their extraordinary spirit, patriotism, and resolve helped defeat tyranny and build democratic and just societies, enabling decent men and women around the world to live in freedom.

Our Nation is extremely proud of our former prisoners of war, and we owe them and their families a debt we can never fully repay. On National Former Prisoner of War Recognition Day, we honor our country's heroes who were prisoners of war, recognize their sacrifice, and express our deepest gratitude to those who helped write a more hopeful chapter in our history.

NOW, THEREFORE, I, GEORGE W. BUSH, President of the United States of America, by virtue of the authority vested in me by the Constitution and laws of the United States, do hereby proclaim April 9, 2008, as National Former Prisoner of War Recognition Day. I call upon the people of the United States to join me in honoring the service and sacrifices of all of America's former prisoners of war. I call upon Federal, State, and local government officials and private organizations to observe this day with appropriate ceremonies and activities.

IN WITNESS WHEREOF, I have hereunto set my hand this eighth day of April, in the year of our Lord two thousand eight, and of the Independence of the United States of America the two hundred and thirty-second.

[FR Doc. 08-1123

Filed 4-10-08; 8:58 am]

Billing code 3195-01-P